DEPARTMENT OF JUSTICE

Notice of Lodging of Consent Decree Under the Clean Air Act

Under 28 CFR 50.7, notice is hereby given that on February 22, 2010, a proposed Consent Decree in United States v. Cummins, Inc., case number 1:10-cv-00275, was lodged with the United States District Court for the District of Columbia.

The Decree resolves the claims of the United States against Cummins, Inc. (“Cummins”) for violations of Title II of the Clean Air Act, 42 U.S.C. 7521 et seq. (the “Act”). The United States alleged that Cummins sold, offered for sale, or introduced or delivered for introduction into commerce new motor vehicle engines not covered by certificates of conformity, because the engines as actually sold, offered for sale, or introduced or delivered for introduction into commerce are materially different from the engines described in Cummins' applications for certificates of conformity, in that the engines were not equipped with the required emission control system or aftertreatment device. Under the proposed Decree, Cummins shall: Pay a penalty of $2.1 million, of which $1,680,000 shall be paid to the United States and the remainder to the State of California under a parallel administrative agreement; institute a voluntary recall of the affected engines; retire 167.1 tons of NOX and 30.5 tons of PM, the entire amount of excess pollution attributable to the violation; and dismiss with prejudice a pending Petition for Review in the DC Circuit.

The Department of Justice will receive for a period of thirty (30) days from the date of this publication comments relating to the Decree. Comments should be addressed to the Assistant Attorney General, Environment and Natural Resources Division, and either e-mailed to pubcomment-ees.enrd@usdoj.gov or mailed to P.O. Box 7611, U.S. Department of Justice, Washington, DC 20044-7611, and should refer to the Consent Decree between the United States and Cummins, DOJ Ref. No. 90-5-2-1-09351.

During the public comment period, the Decree may be examined on the following Department of Justice Web site, http://www.usdoj.gov/enrd/Consent_Decrees.html. A copy of the Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $8.25 (25 cents per page reproduction cost) payable to the U.S. Treasury or, if by e-mail or fax, forward a check in that amount to the Consent Decree Library at the stated address.

Maureen Katz,
Assistant Section Chief, Environmental Enforcement Section, Environment and Natural Resources Division.

[FR Doc. 2010-4023 Filed 2-26-10; 8:45 am]

BILLING CODE 4410-15-P